DEPARTMENT OF THE INTERIOR

Bureau of Indian Affairs

Certificate of Degree of Indian or Alaska Native Blood Information Collection (CDIB), Submission

AGENCY: Bureau of Indian Affairs, Interior.

ACTION: Notice of submission of information collection.

SUMMARY: The Bureau of Indian Affairs (BIA) is submitting to OMB an information collection from persons seeking proof of American Indian or Alaska Native blood for reinstatement, as required by the Paperwork Reduction Act. The information collected under OMB Control No. 1076-0153 will be used to document an applicant's Indian ancestry and degree of Indian or Alaska Native blood. CDIBs are used by individuals applying for BIA programs and services available to Indians because they are Indian.

DATES: Submit comments on or before March 13, 2008.

ADDRESSES: Submit comments on the information collection to the Desk Officer for the Department of the Interior either by facsimile at 202-395-6566 or by e-mail at OIRA_DOCKET@omb.eop.gov. Please submit copy of comments to Iris Drew, Office of Indian Services, Bureau of Indian Affairs, 1001 Indian School Road, NW., Albuquerque, New Mexico 87104. Fax number: (505) 563-3060.

FOR FURTHER INFORMATION CONTACT: Ms. Iris Drew, Tribal Relations Specialist, Tribal Government Services, (505) 563-3530.

SUPPLEMENTARY INFORMATION: This collection was originally approved and assigned OMB Control No. 1076-0153 when it was submitted with a proposed rulemaking, 25 CFR part 70, which was published in the Federal Register on April 18, 2000 (66 FR 20775). The proposed rulemaking was not finalized due to various reasons. We are in the process of revising the proposed rulemaking for processing applications for Certificates of Degree of Indian or Alaska Native Blood (CDIB). A request for comments on this information collection request appeared in the Federal Register (72 FR 61366) on October 30, 2007. One comment was received during or before the close of the public comment period of December 31, 2007.

Comment: We received one comment regarding (1) who needs to fill out the form? Is it to be used only for new recognition applications or for all enrolled persons; (2) does this establish a new “blood” requirement, i.e., ⅛ or ¼?; and (3) do not reinvent Enrollment for those who have already done it but have reasonable requirements for new enrollees or those denied.

Response: (1) Most of the individuals who fill out the form are non-enrolled Indians who wish to document their Indian or Alaska native ancestry. Non-enrolled persons with one-quarter (¼) or more degree Indian blood may be eligible to receive various services provided to Indians and Alaska Natives by the Bureau of Indian Affairs. Other Federal Agencies will accept a CDIB as proof of Indian ancestry. In general, enrolled tribal members who can show proof of tribal membership do not need a CDIB to demonstrate eligibility for services.

(2) Minimum Indian blood degree requirements are established by Congress through federal statute or by tribes and Alaska Native villages through tribal law. The Certificate Degree of Indian or Alaska Native Blood does not establish a new “blood” requirement. Rather, CDIBs are used by individuals who want to document their Indian or Alaska native ancestry and degree of Indian blood. CDIBs do not establish membership in any Indian or Alaska Native tribe.

(3) A CDIB is not an enrollment document. Tribes determine their own membership and the BIA does not enroll tribal members.

Request for Comments: The Bureau of Indian Affairs requested comments about the proposed collection to evaluate:

(a) The accuracy of the burden hours, including validity of the methodology used and assumptions made;

(b) The necessity of the information for proper performance of the bureau functions, including its practical utility;

(c) The quality, utility and clarity of the information to be collected; and

(d) Suggestions to reduce the burden including use of automated, electronic, mechanical, or other forms of information technology.

The public is advised that an agency may not conduct or sponsor, and a person is not required to respond to, a collection of information that does not display a valid OMB clearance number. For example, this collection is listed by OMB as control No. 1076-0153, and it expired 11/30/07. The response is voluntary to obtain or retain a benefit.

Please submit your comments to the persons listed in the ADDRESSES section. Please note that comments, names and addresses of commentators, are open for public review. Be aware that your name and address may be available to the public on the OMB Web site. We cannot guarantee that your personal information will be safeguarded.

Your comments should address: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

OMB has up to 60 days to make a decision on the submission for renewal, but may make the decision after 30 days. Therefore, to receive the best consideration of your comments, you should submit them closer to 30 days than 60 days.

OMB Approval Number: 1076-0153.

Title: Request for Certificate of Degree of Indian or Alaska Native Blood, 25 CFR part 70.

Brief Description of Collection: Submission of this information is voluntary. However, not providing information may result in a determination that an individual is not eligible to receive program services based upon his/her status as an American Indian or Alaska Native. The information to be collected includes: Certificates of birth and death, probate determinations, court orders, affidavits, Federal or Tribal census records and Social Security records.

Type of Review: Reinstatement.

Respondents: Individual Indians who may be eligible to receive program services based upon their status and/or degree of Indian or Alaska Native blood.

Number of Respondents: 154,980.

Estimated Time per Response: The reporting and record keeping burden for this collection of information is estimated to average 1.5 hours for each response for an estimate 154,980 requests per year or 232,470 hours, including the time for reviewing instructions, searching existing data sources and gathering needed data. Thus, the estimated total annual reporting and record keeping burden for this entire collection is estimated to be 232,470 hours.

Frequency of Response: All information and documentation is to be collected once from each requester.

Total Annual Burden to Respondents: 232,470 hours.

Total Annual Cost to Respondents: $6,199,200.

Dated: February 6, 2008.
Carl J. Artman,
Assistant Secretary—Indian Affairs.

[FR Doc. E8-2535 Filed 2-11-08; 8:45 am]

BILLING CODE 4310-4J-P